ENVIRONMENTAL PROTECTION AGENCY

[FRL-8297-5]

Meeting of the Local Government Advisory Committee

AGENCY: Environmental Protection Agency (EPA).

ACTION: Notice.

SUMMARY: The Local Government Advisory Committee and the Small Community Advisory Subcommittee (SCAS), Steering Committee, and workgroups for Water, Indicators, Regulations, Watersheds and Coastlines, and Solid Waste/Environmental Reclamation will meet on May 2-4, 2007 in Washington, DC The SCAS will meet on May 3, 11:30 a.m.-1:30 p.m. for a strategic planning session.

The Committee will hear comments from the public between 3:30 p.m.-4 p.m. on Thursday, May 3. Each individual or organization wishing to address the LGAC meeting will be allowed a maximum of five minutes to present their point of view. Please contact the Designated Federal Officer (DFO) at the number listed below to schedule agenda time. Time will be allotted on a first come, first serve basis, and the total period for comments may be extended, if the number of requests for appearances require it.

This is an open meeting and all interested persons are invited to attend. LGAC meeting minutes and Subcommittee summary notes will be available after the meeting online or by written request to the DFO. Members of the public are requested to call the DFO at the number listed below if planning to attend so that arrangements can be made to comfortably accommodate attendees as much as possible. Seating will be on a first come, first serve basis.

DATES: The Local Government Advisory Committee plenary session will be held from 8:30 a.m.-11:30 a.m. May 3 and reconvene at 10 a.m. on May 4.

ADDRESSES: The LGAC meeting will be held at the Four Points by Sheraton, located at 1201 K Street NW. The Steering Committee meeting will be held on May 2, 1:30 p.m.-4 p.m.on Wednesday, May 2, at EPA Headquarters, 1200 Pennsylvania Avenue, NW., Ariel Rios North, conference room 3530, Washington, DC.

Additional information can be obtained by e-mailing the DFO at Eargle.Frances@epa.gov, or in written correspondence at 1200 Pennsylvania Avenue, NW., (1301A), Washington, DC 20460.

FOR FURTHER INFORMATION CONTACT: Contact Frances Eargle, DFO for the Local Government Advisory Committee (LGAC) at (202) 564-3115 or Anna Raymond, DFO for the Small Community Advisory Subcommittee (SCAS) at (202) 564-3663.

Information on Services for the Disability: For information on access or services for individuals with disability, please contact Frances Eargle at (202) 564-3115. To request accommodation of a disability, please contact Frances Eargle, preferably at least 10 days prior to the meeting, to give EPA as much time as possible to process your request.

Dated: March 29, 2007.
Frances Eargle,
Designated Federal Officer, Local Government Advisory Committee.

[FR Doc. E7-6840 Filed 4-10-07; 8:45 am]

BILLING CODE 6560-50-P